DEPARTMENT OF THE TREASURY

Office of Foreign Assets Control

31 CFR Part 569

Publication of Syria-Related Sanctions Regulations Web General Licenses 1, 2, and 3

AGENCY: Office of Foreign Assets Control, Treasury.

ACTION: Publication of Web General Licenses.

SUMMARY: The Department of the Treasury's Office of Foreign Assets Control (OFAC) is publishing three general licenses (GLs) issued pursuant to the Syria-Related Sanctions Regulations: GLs 1, 2, and 3, each of which were previously made available on OFAC's website.

DATES: GLs 1, 2, and 3 were issued on October 14, 2019. See SUPPLEMENTARY INFORMATION for additional relevant dates.

FOR FURTHER INFORMATION CONTACT: OFAC: Assistant Director for Licensing, 202-622-2480; Assistant Director for Regulatory Affairs, 202-622-4855; or Assistant Director for Sanctions Compliance, 202-622-2490.

SUPPLEMENTARY INFORMATION:

Electronic Availability

This document and additional information concerning OFAC are available on OFAC's website: https://ofac.treasury.gov.

Background

On October 14, 2019, OFAC issued GLs 1, 2, and 3 to authorize certain transactions otherwise prohibited by Executive Order (E.O.) 13894 of October 14, 2019 “Blocking Property and Suspending Entry of Certain Persons Contributing to the Situation in Syria” (84 FR 55851, October 17, 2019). In 2020, E.O. 13894 was incorporated into the Syria-Related Sanctions Regulations, 31 CFR part 569 (“Regulations”). GLs 2 and 3 were revoked on November 5, 2019. Each GL was made available on OFAC's website (https://ofac.treasury.gov) when it was issued. In 2022, OFAC added GLs for the official business of the U.S. government and for official business of certain international organizations and entities at §§ 569.509 and 569 of the Regulations, respectively, which incorporate the authorizations previously in GLs 1 and 3. The text of these GLs is provided below.

OFFICE OF FOREIGN ASSETS CONTROL

Executive Order of October 14, 2019—Blocking Property and Suspending Entry of Certain Persons Contributing to the Situation in Syria

GENERAL LICENSE 1

Official Business of the United States Government

(a) Except as provided in paragraph (b) of this general license, all transactions and activities prohibited pursuant to Sections 1, 2, and 3 of Executive Order of October 14, 2019 that are for the conduct of the official business of the United States Government by employees, grantees, or contractors thereof are authorized.

(b) This general license does not authorize any transaction or activity that is prohibited by any other Executive Order or any part of 31 CFR chapter V.

Bradley T. Smith,

Deputy Director,

Office of Foreign Assets Control.

Dated: October 14, 2019

OFFICE OF FOREIGN ASSETS CONTROL

Executive Order of October 14, 2019—Blocking Property and Suspending Entry of Certain Persons Contributing to the Situation in Syria

GENERAL LICENSE 2

Authorizing Certain Activities Necessary to the Wind Down of Operations or Existing Contracts Involving the Ministry of National Defence or the Ministry of Energy and Natural Resources of the Government of Turkey

(a) Except as provided in paragraph (b) of this general license, all transactions and activities prohibited by Executive Order (E.O.) of October 14, 2019 that are ordinarily incident and necessary to the wind down of operations, contracts, or other agreements involving the Ministry of National Defence or the Ministry of Energy and Natural Resources of the Government of Turkey, or any entity in which one or more of such ministries own, directly or indirectly, a 50 percent or greater interest, that were in effect prior to 12:01 eastern daylight time October 14, 2019, are authorized through 12:01 a.m. eastern standard time November 13, 2019.

(b) This general license does not authorize:

(1) Any debit to an account of a person blocked pursuant to E.O. of October 14, 2019 on the books of a U.S. financial institution; or

(2) Any transactions or activities otherwise prohibited by any other E.O or any part of 31 CFR chapter V.

Bradley T. Smith,

Deputy Director,

Office of Foreign Assets Control.

Dated: October 14, 2019

OFFICE OF FOREIGN ASSETS CONTROL

Executive Order of October 14, 2019—Blocking Property and Suspending Entry of Certain Persons Contributing to the Situation in Syria

GENERAL LICENSE 3

Authorizing Official Activities of Certain International Organizations Involving the Ministry of National Defence or the Ministry of Energy and Natural Resources of the Government of Turkey

(a) Except as provided in paragraph (b) of this general license, all transactions and activities prohibited pursuant to Sections 1, 2, and 3 of Executive Order (E.O.) of October 14, 2019 involving the Ministry of National Defence or the Ministry of Energy and Natural Resources of the Government of Turkey, or any entity in which one or more of such ministries own, directly or indirectly, a 50 percent or greater interest, that are for the official business of the United Nations, including its Programmes and Funds, and its Specialized Agencies and Related Organizations, including those entities listed below, are authorized:

• World Bank

• IMF (International Monetary Fund)

• FAO (UN Food and Agriculture Organization)

• OCHA (UN Office for the Coordination of Humanitarian Affairs)

• OHCHR (UN Office of the United Nations High Commissioner for Human Rights)

• UN Habitat

• UNDP (UN Development Program)

• UNFP A (UN Population Fund)

• UNHCR (Office of the UN High Commissioner for Refugees)

• UNICEF (UN Children's Fund)

• WFP (World Food Program)

• The World Health Organization (WHO), including the Pan-American Health Organization (PAHO)

Note to paragraph (a): For an organizational chart of the United Nations and its specialized agencies and related organizations, see the following page on the United Nations website: http://www.unsceb.orn/directory.

(b) This general license does not authorize:

(1) The unblocking of any property blocked pursuant to E.O. of October 14, 2019 or any part of 31 CFR chapter V, except as authorized by paragraph (a); or

(2) Any transaction or dealing otherwise prohibited by E.O. of October 14, 2019, any other E.O., or any part of 31 CFR chapter V.

Bradley T. Smith,

Deputy Director,

Office of Foreign Assets Control.

Dated: October 14, 2019

Bradley T. Smith,
Director, Office of Foreign Assets Control.

[FR Doc. 2023-27692 Filed 12-18-23; 8:45 am]

BILLING CODE 4810-AL-P